DEPARTMENT OF THE INTERIOR

National Park Service

[NPS-WASO-NAGPRA-NPS0036255; PPWOCRADN0-PCU00RP14.R50000]

Notice of Inventory Completion: U.S. Department of the Interior, Bureau of Land Management, Anchorage, AK

AGENCY: National Park Service, Interior.

ACTION: Notice.

SUMMARY: In accordance with the Native American Graves Protection and Repatriation Act (NAGPRA), the U.S. Department of the Interior, Bureau of Land Management (BLM Alaska) has completed an inventory of human remains and associated funerary objects and has determined that there is a cultural affiliation between the human remains and associated funerary objects and Indian Tribes or Native Hawaiian organizations in this notice. The human remains and associated funerary objects were removed from four areas northeast of Seldovia, AK, on or near the southern shore of Kachemak Bay, located off the southwestern part of the lower Kenai Peninsula, AK.

DATES: Repatriation of the human remains and associated funerary objects in this notice may occur on or after August 28, 2023.

ADDRESSES: Robert E. King, Bureau of Land Management, 222 W 7th Avenue, #13, Anchorage, AK 99513, telephone (907) 271-5510, email r2king@blm.gov.

SUPPLEMENTARY INFORMATION: This notice is published as part of the National Park Service's administrative responsibilities under NAGPRA. The determinations in this notice are the sole responsibility of BLM Alaska. The National Park Service is not responsible for the determinations in this notice. Additional information on the determinations in this notice, including the results of consultation, can be found in the inventory or related records held by BLM Alaska.

Description

In 1931, human remains representing, at minimum, four individuals were removed from three areas within about 25 miles northeast of Seldovia, AK, on or near the southern shore of Kachemak Bay, which is located off the southwestern part of the lower Kenai Peninsula, AK. These human remains, estimated to be over 200 years old, were removed by Frederica de Laguna, who was associated with the University of Pennsylvania Museum of Archaeology and Anthropology in Philadelphia, PA. The human remains were brought back to this museum, where they are currently housed. One partial set of human remains [PM# 31-20-585] was removed from what was called Rocky Island (otherwise known as Sixty-foot Rock), located north of Cohen Island in Kachemak Bay, about 12 miles northeast of Seldovia, AK. Two partial sets of human remains [PM# 31-20-2323; PM# 31-20-2321] were collected on Yukon Island in Kachemak Bay, about 10 miles northeast of Seldovia, AK. A fourth partial set of human remains [PM# 31-20-312.1] were collected on Aurora Spit, located on the north shore of the southwestern part of the lower Kenai Peninsula, about 25 miles northeast of Seldovia, AK. The one associated funerary object is a bone point [PM# 31-20-356] that was found near the partial set of human remains collected on Aurora Spit.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological and oral traditional.

Determinations

Pursuant to NAGPRA and its implementing regulations, and after consultation with the appropriate Indian Tribes and Native Hawaiian organizations, BLM Alaska has determined that:

• The human remains described in this notice represent the physical remains of four individuals of Native American ancestry.

• The one object described in this notice is reasonably believed to have been placed with or near individual human remains at the time of death or later as part of the death rite or ceremony.

• There is a relationship of shared group identity that can be reasonably traced between the human remains described in this notice and the Seldovia Village Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 28, 2023. If competing requests for repatriation are received, BLM Alaska must determine the most appropriate requestor prior to repatriation. Requests for joint repatriation of the human remains are considered a single request and not competing requests. BLM Alaska is responsible for sending a copy of this notice to the Indian Tribe identified in this notice.

Authority: Native American Graves Protection and Repatriation Act, 25 U.S.C. 3003, and the implementing regulations, 43 CFR 10.9, § 10.10, and § 10.14.

Dated: July 19, 2023.
Melanie O'Brien,
Manager, National NAGPRA Program.

[FR Doc. 2023-16067 Filed 7-27-23; 8:45 am]

BILLING CODE 4312-52-P